NATIONAL SCIENCE FOUNDATION

Proposal Review Panel for Physics; Notice of Meeting

In accordance with the Federal Advisory Committee Act (Pub. L. 92-463, as amended), the National Science Foundation (NSF) announces the following meeting:

Name and Committee Code: Virtual Site Review of operations and data analysis for the Telescope Array Project (1208).

Date and Time: June 13, 2022-June 15, 2022; 10:30 a.m.-6:30 p.m. EDT each day.

Place: University of Utah, Department of Physics and Astronomy, (155 S), 1452 E, Salt Lake City, UT 84112 | Virtual Site Visit via Zoom.

Type of Meeting: Part-Open.

Contact Persons: Darren Grant, Program Director, Division of Physics, (dgrant@nsf.gov) (703.292.4889). National Science Foundation, 2415 Eisenhower Avenue, Alexandria, VA 22314.

Purpose of Meeting: Virtual site visit to provide an evaluation of the operations and data analysis activities of the University of Utah Telescope Array group.

Agenda: NSF will provide the Zoom coordinates for each meeting (All times are Eastern Daylight Time (EDT)).

June 13, 2022

10:30 a.m.-11:00 a.m.—Executive Session (Closed)

11:00 a.m.-5:00 p.m.—Presentations on the Telescope Array Physics Data Analysis (Open)

5:00 p.m.-6:00 p.m.—Executive Session (Closed)

6:00 p.m.-6:30 p.m.—Closeout presentation by Review Panel (Open)

June 14, 2022

10:30 a.m.-11:00 a.m.—Executive Session (Closed)

11:00 a.m.-5:00 p.m.—Presentations on the Telescope Array Operations (Open)

5:00 p.m.-6:00 p.m.—Executive Session (Closed)

6:00 p.m.-6:30 p.m.—Closeout presentation by Review Panel (Open)

June 15, 2022

10:30 a.m.-11:00 a.m.—Executive Session (Closed)

11:00 a.m.-12:00 p.m.—Discussion with the Project (Open)

12:00 p.m.-5:00 p.m.—Executive Session (Closed)

5:00 p.m.-6:30 p.m.—Closeout presentation by Review Panel (Open)

Reason for Closing: Topics to be discussed and evaluated during the site review will include information of a proprietary or confidential nature, including technical information; and information on personnel. These matters are exempt under 5 U.S.C.552b(c), (4) and (6) of the Government in the Sunshine Act.

Dated: May 12, 2022.
Crystal Robinson,
Committee Management Officer.

[FR Doc. 2022-10623 Filed 5-17-22; 8:45 am]

BILLING CODE 7555-01-P